DEPARTMENT OF ENERGY

Federal Energy Regulatory Commission

[Project Nos. 2145, 943, 2149, and 2114]

Public Utility District No. 1 of Chelan County, WA, Project No. 2145, Project No. 943; Public Utility District No. 1 of Douglas County, WA, Project No. 2149; Public Utility District No. 2 of Grant County, WA; Project No. 2114; Notice of Site Visits

May 2, 2002.

On Tuesday, May 21, 2002, the Office of Energy Projects staff will participate in a site visit of the Priest Rapids Hydroelectric Project on the Columbia River. The site visit will begin at about 8 a.m. at the Wanapum Heritage Center at Wanapum Dam.

On Wednesday, May 22, 2002, the Office of Energy Projects staff will participate in a site visit of the Wells and Rock Island hydroelectric projects on the Columbia River. The Wells site visit will begin at about 9 a.m. at the Wells Project Overlook Area. The Rock Island site visit will begin at about 1 p.m. in Cottage A at the Public Utility District No. 1 of Chelan County offices on the east side of the Columbia River.

On Thursday, May 23, 2002, the Office of Energy Projects staff will participate in a site visit of the Rocky Reach Hydroelectric Project on the Columbia River. The site visit will begin at about 1 p.m. at the Rocky Reach Project Visitors Center.

All interested parties and individuals are welcome to attend these site visits. Those planning to attend must provide their own transportation and should contact the following individuals for each project no later than May 17, 2002.

Project(s)—Contact, Phone

Rocky Reach and Rock Island projects—Suzanne Bacon, (509) 663-8121

Wells Project—Bob Clubb, (509) 884-7191

Priest Rapids Project—Linda Jones, (509) 754-5037

For further information, please contact Bob Easton at (202) 219-2782 or robert.easton@ferc.gov.

Magalie R. Salas,
Secretary.

[FR Doc. 02-11405 Filed 5-7-02; 8:45 am]

BILLING CODE 6717-01-P